FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than May 12, 2021.

A. Federal Reserve Bank of Atlanta (Kathryn Haney, Assistant Vice President) 1000 Peachtree Street NE, Atlanta, Georgia 30309. Comments can also be sent electronically to Applications.Comments@atl.frb.org:

1. Greater Community Bank Employee Stock Ownership and 401(k) Plan, Robert L. Berry and Kenneth Wayne Jones, Jr., as co-trustees, all of Rome, Georgia; and David J. Lance, also a co-trustee of the Plan, Calhoun, Georgia; to retain voting shares of Greater Community Bancshares, Inc., and thereby indirectly retain voting shares of Greater Community Bank, both of Rome, Georgia.

B. Federal Reserve Bank of Dallas (Karen Smith, Director, Applications) 2200 North Pearl Street, Dallas, Texas 75201-2272:

1. Susan Luecke Walther, Lincoln, Texas; Fred Luecke and Jimmie Luecke, individually, and as general partner of the Jimmie Luecke Children Partnership, Ltd. I, all of Giddings, Texas; to become the Luecke Family Group, a group acting in concert, to retain voting shares of Giddings Bancshares, Inc., and thereby indirectly retain voting shares of First National Bank of Giddings, both of Giddings, Texas.

Board of Governors of the Federal Reserve System, April 22, 2021.
Michele Taylor Fennell,
Deputy Associate Secretary of the Board.

[FR Doc. 2021-08779 Filed 4-26-21; 8:45 am]

BILLING CODE 6210-01-P